NATIONAL SCIENCE FOUNDATION

Proposal Review Panel for Chemistry; Notice of Meeting

In accordance with the Federal Advisory Committee Act (Pub. L. 92-463, as amended), the National Science Foundation announces the following meeting:

Name: Centers for Chemical Innovation (CCI) Solar Fuels: Powering the Planet Site Visit 2012, #1191.

Date and Time:

Tuesday, May 22, 2012 (7:00 p.m.-9:00 p.m.),

Wednesday, May 23, 2012 (7:00 a.m.-5:30 p.m.),

Thursday, May 24, 2012 (7:00 a.m.-1:00 p.m.).

Place: Hilton, Pasadena, California.

Type of Meeting: Partially-Open.

Contact Person: Zeev Rosenzweig, Program Director, Division of Chemistry, National Science Foundation, 4201 Wilson Blvd., Arlington, VA, 703-292-7719.

Purpose of Meeting: To provide advice and recommendations concerning center proposal submitted to NSF for financial support.

Agenda:

Tuesday, May 22, 2012

7:00 p.m.-9:00 p.m. Executive Session (Closed)

Wednesday, May 23, 2012

7:00 a.m. -8:15 a.m. Executive Session (Closed)

8:15 a.m.-12:10 p.m. Welcome & Session 1 (Center Overview) & Session 2 (Catalyst Research and Center Outreach) (Open)

12:10 p.m.-1:15 p.m. Executive Session (Closed)

1:15 p.m.-5:30 p.m. Poster Session & Session 3 (Integration Challenges) & Session 4 (Future Plans) (Open)

Thursday, May 24, 2012

7:00 a.m.-8:30 a.m. Executive Session (Closed)

8:30 a.m.-9:30 a.m. Meet with CCI Management and Steering Committees (Open)

9:30 a.m.-12:30 p.m. Report Writing (Closed)

12:30 p.m.-1:00 p.m. Executive Session (Closed)

Reason for Closing: The meeting is closed to the public because the Site Visitors will be reviewing proposal actions that will include privileged intellectual property and personal information that could harm individuals if they were disclosed. If discussions were open to the public, these matters that are exempt under 5 U.S.C. 552b(c)(4) and (6) of the Government Sunshine Act would be improperly disclosed.

Dated: May 8, 2012.
Susanne Bolton,
Committee Management Officer.

[FR Doc. 2012-11383 Filed 5-10-12; 8:45 am]

BILLING CODE 7555-01-P